DEPARTMENT OF TRANSPORTATION

Federal Railroad Administration

Notice of Clarification of Solicitation of Applications and Notice of Funding Availability for the Capital Assistance to States—Intercity Passenger Rail Service Program

AGENCY: Federal Railroad Administration (FRA), Department of Transportation (DOT).

ACTION: Clarification regarding solicitation of applications and notice of funding availability.

SUMMARY: On February 19, 2008, FRA issued a Notice of Funding Availability and Solicitation of Applications for the Capital Assistance to States—Intercity Passenger Rail Service Program. On April 18, 2008, in response to questions posed by prospective applicants, FRA issued Notice of Clarification addressing three issues related to applicant and project eligibility. FRA is now issuing further clarification, as described below.

FOR FURTHER INFORMATION CONTACT: Peter Schwartz, Office of Railroad Development (RDV-11), Federal Railroad Administration, 1200 New Jersey Avenue, SE., Washington, DC 20590. Phone: (202) 493-6360; Fax: (202) 493-6330.

SUPPLEMENTARY INFORMATION: The sections of the February 19, 2008 notice labeled DATES and “Schedule for Capital Grant Program” are amended to read as follows.

DATES: FRA will begin accepting grant applications on March 18, 2008. Applications may be submitted until the earlier of September 30, 2009, or the date on which all available funds will have been committed under this program. The last-mentioned date will be announced in the Federal Register.

Applications submitted by June 30, 2008 will be considered in the first round of awards on the basis of application materials that FRA has received as of that date. Any subsequent rounds of awards will depend on the availability of funds after the first round of awards.

Schedule for Capital Grant Program: FRA will begin accepting grant applications on March 18, 2008. Applications for the first round of awards must be submitted by June 30, 2008. For subsequent rounds of awards, if any, deadlines will be announced in the Federal Register. Due to the limited funding available under this program: (1) Applicants are encouraged to submit their applications at the earliest date practicable in order to maximize the consideration of their applications in the competition; (2) applications will be considered in their entirety; applicants proposing two or more projects, each with independent utility, are encouraged to submit a separate application for each project; and (3) FRA may suggest that an applicant submit a revised application reflecting a refined scope of work and budget.

Applicants that have submitted an application by June 30, 2008 will be considered in the first round of awards on the basis of application materials that FRA has received as of that date. FRA anticipates announcing the first award(s) pursuant to this notice during FY 2008. Applications (including any subsequent revisions thereto) not selected for award in a given round in the competition, along with applications received subsequent to the cut-off date for the prior round of awards, may be considered, if merited, in a subsequent round of awards.

Issued in Washington, DC on May 29, 2008.
Mark E. Yachmetz,
Associate Administrator for Railroad Development.

[FR Doc. 08-1313 Filed 5-29-08; 2:35 pm]

BILLING CODE 4910-06-P